DEPARTMENT OF COMMERCE

International Trade Administration

[A-570-849]

Certain Cut-to-Length Carbon Steel Plate from the People's Republic of China: Rescission of Antidumping Duty Administrative Review

AGENCY: Import Administration, International Trade Administration, Department of Commerce.

DATES: Effective Date: May 26, 2010.

FOR FURTHER INFORMATION CONTACT: Rebecca Pandolph or Howard Smith, AD/CVD Operations, Office 4, Import Administration, International Trade Administration, U.S. Department of Commerce, 14th Street and Constitution Avenue, N.W., Washington, DC 20230, telephone: (202) 482-3627 or (202) 482-5193, respectively.

SUPPLEMENTARY INFORMATION:

Background

On October 21, 2003, the Department of Commerce (“Department”) published in the Federal Register the antidumping duty order on certain cut-to-length carbon steel plate (“CTL Plate”) from the People's Republic of China (“PRC”). See Suspension Agreement on Certain Cut-to-Length Carbon Steel Plate From the People's Republic of China; Termination of Suspension Agreement and Notice of Antidumping Duty Order, 68 FR 60081 (October 21, 2003). On November 2, 2009, the Department published a notice of opportunity to request an administrative review of the antidumping duty order on CTL Plate from the PRC for the period of review (“POR”) November 1, 2008 through October 31, 2009. See Antidumping or Countervailing Duty Order, Finding, or Suspended Investigation; Opportunity to Request Administrative Review, 74 FR 56573 (November 2, 2009).

On November 30, 2009, the Department received a timely request from Nucor Corporation, a domestic producer of CTL plate, to conduct an administrative review of Hunan Valin Xiangtan Iron & Steel Co., Ltd (“Hunan Valin”). No other party requested an administrative review. On December 23, 2009, in accordance with section 751(a) of Tariff Act of 1930, as amended (the “Act”), the Department published in the Federal Register a notice of the initiation of an antidumping duty administrative review of Hunan Valin. See Initiation of Antidumping and Countervailing Duty Administrative Reviews and Request for Revocation in Part, 74 FR 68229 (December 23, 2009).

On December 23, 2009, Hunan Valin submitted a letter certifying that it did not have any exports or sales of subject merchandise during the POR. The Department conducted an internal U.S. Customs and Border Protection (“CBP”) data query and found no evidence that Huanan Valin had any shipments of subject merchandise during the POR. In addition, on January 13, 2010, the Department made a “No Shipments Inquiry” to CBP to confirm that there were no exports of subject merchandise by Hunan Valin during the POR. The Department asked CBP to notify the Department within ten days if CBP “has contrary information and is suspending liquidation” of subject merchandise exported by Hunan Valin. See Memorandum to All Interested Parties regarding, “Antidumping Duty Administrative Review of Certain Cut-To-Length Steel Plate from the People's Republic of China (PRC): Hunan Valin Xiangtran Iron & Steel Co., Ltd.'s No Shipment Claim,” dated March 16, 2010 (“Intent to Rescind Memorandum”). CBP did not reply with contrary information. The Department provided interested parties in this review until March 23, 2010, to submit comments on the Intent to Rescind Memorandum. The Department did not receive comments from any interested party on the Department's intent to rescind.

Rescission of Review

Pursuant to 19 CFR 351.213(d)(3), the Department may rescind an administrative review with respect to a particular exporter or producer if the Department concludes that during the POR there were no entries, exports, or sales of the subject merchandise by that exporter or producer. As noted above, the Department has found and continues to find no evidence that Hunan Valin had shipments or entries of subject merchandise during the POR and no interested party has commented on the issue. Therefore, pursuant to 19 CFR 351.213(d)(3), the Department is rescinding the antidumping duty administrative review with respect to Hunan Valin.

Assessment

The Department will instruct CBP to assess antidumping duties at the cash deposit rate in effect on the date of entry, for entries during the period November 1, 2008 through October 31, 2009. The Department intends to issue appropriate assessment instructions to CBP 15 days after publication of this notice of rescission of administrative review.

Notification to Importers

This notice serves as a final reminder to importers whose entries will be liquidated as a result of this rescission notice, of their responsibility under 19 CFR 351.402(f)(2) to file a certificate regarding the reimbursement of antidumping duties prior to liquidation of the relevant entries during this review period. Failure to comply with this requirement could result in the Secretary's assumption that reimbursement of antidumping duties occurred and subsequent assessment of double antidumping duties.

Notification Regarding Administrative Protective Order (“APO”)

This notice also serves as a reminder to parties subject to APO of their responsibility concerning the return or destruction of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with section 777(i)(1) of the Act, and 19 CFR 351.213(d)(4).

Dated: May 19, 2010.
John M. Andersen,
Acting Deputy Assistant Secretary for Antidumping and Countervailing Duty Operations.

[FR Doc. 2010-12661 Filed 5ndash;25-10; 8:45 am]

BILLING CODE 3510-DS-S